DEPARTMENT OF TRANSPORTATION

Federal Aviation Administration

14 CFR Part 71

[Docket No. FAA-2021-0245; Airspace Docket No. 21-AAL-8]

RIN 2120-AA66

Amendment to VOR Federal Airway V-436 and Jet Route J-125, and Establishment of United States Area Navigation Route T-399 in the Vicinity of Clear, AK

AGENCY: Federal Aviation Administration (FAA), DOT.

ACTION: Final rule; correction.

SUMMARY: This action corrects a final rule published by the FAA in the Federal Register on November 1, 2022, that amends Alaskan VHF Omnidirectional Range (VOR) Federal airway V-436 and Jet Route J-125, and establishes United States Area Navigation (RNAV) route T-399 in the vicinity of Clear, AK. In the final rule, the amendments to V-436 addressed in the preamble were incomplete and did not address all of the airway segment amendments being made. Additionally, the final rule referenced the AILEE, AK, route point as a waypoint (WP), in error, in the V-436 and T-399 amendment discussions in the preamble and in the T-399 route description in the regulatory text. The correct characterization of the AILEE, AK, route point is as a Fix. This action corrects the oversight of not including all of the V-436 amendments addressed in the preamble to match the V-436 description in the regulatory text and changes all references of the AILEE, AK, WP to the AILEE, AK, Fix to match the FAA's National Airspace System Resource (NASR) database information.

DATES: Effective date 0901 UTC, December 29, 2022. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 65675; November 1, 2022), amending Alaskan VOR Federal airway V-436 and Jet Route J-125, and establishing RNAV route T-399 in the vicinity of Clear, AK. Subsequent to publication, the FAA determined that the amendments to V-436 addressed in the preamble were incomplete and did not address all of the airway segment amendments being made. Additionally, the FAA determined that the AILEE, AK, route point was incorrectly identified as a WP. As such, the preamble discussion of the V-436 amendments appear inconsistent with the amended V-436 description listed in the regulatory text and all references of the AILEE, AK, WP do not match the FAA's NASR database information.

This rule corrects the preamble discussion of the V-436 amendments to include all of the airway segment amendments being made and changes all references of the AILEE, AK, WP to the AILEE, AK, Fix. This action does not alter the alignment of the amended V-436 airway or the established T-399 route listed in the final rule.

Alaskan VOR Federal airways are published in paragraph 6010(b) and United States Area Navigation Routes are published in paragraph 6011 of FAA Order JO 7400.11G, dated August 19, 2022, and effective September 15, 2022, which is incorporated by reference in 14 CFR 71.1. The Alaskan VOR Federal airway and RNAV T-route listed in this document will be published subsequently in FAA Order JO 7400.11.

Correction to Final Rule

Accordingly, pursuant to the authority delegated to me, the V-436 amendment discussion contained in the preamble and all references of the AILEE, AK, WP in Docket No. FAA-2021-0245, as published in the Federal Register of November 1, 2022 (87 FR 65675), FR Doc. 2022-23369, are corrected as follows:

1. In FR Doc. 2022-23369, appearing on page 65676, in the first and second columns, replace the V-436 amendment discussion to read,

“V-436: V-436 extends between the Anchorage, AK (ANC), VHF Omnidirectional Range/Distance Measuring Equipment (VOR/DME) and the Deadhorse, AK (SCC), VOR/DME. This action removes the airway segment between the Talkeetna, AK (TKA), VOR/DME and the Nenana, AK (ENN), VHF Omnidirectional Range/Tactical Air Navigation (VORTAC) and replaces the removed airway segment with an airway segment that extends between the Talkeetna, AK (TKA), VOR/DME; the AILEE, AK, Fix; and the Fairbanks, AK (FAI), VORTAC. Additionally, the airway segment north of the Nenana, AK, VORTAC to the Deadhorse, AK, VOR/DME is removed as discussed in the NPRM. As amended, V-436 will extend between the Anchorage, AK, VOR/DME and the Fairbanks, AK, VORTAC.”

2. In FR Doc. 2022-23369, appearing on page 65676, in the second column, replace the T-399 establishment discussion to read,

“T-399: T-399 is a new RNAV route that extends between the Talkeetna, AK (TKA), VOR/DME and the Nenana, AK (ENN), VORTAC over the AILEE, AK, Fix; the PAWWW, AK, WP; and the SEAHK, AK, WP.”

3. In FR Doc. 2022-23369, appearing on page 65677, correct the table for T-399 Talkeetna, AK (TKA) to Nenana, AK (ENN) [New] to read:

T-399 Talkeetna, AK (TKA) to Nenana, AK (ENN) [New]
Talkeetna, AK (TKA) | VOR/DME | (Lat. 62°17′54.16″ N, long. 150°06′18.90″ W)
AILEE, AK | FIX | (Lat. 63°36′00.04″ N, long. 149°32′23.46″ W)
PAWWW, AK | WP | (Lat. 63°58′06.62″ N, long. 149°35′19.10″ W)
SEAHK, AK | WP | (Lat. 64°22′38.93″ N, long. 149°32′37.92″ W)
Nenana, AK (ENN) | VORTAC | (Lat. 64°35′24.04″ N, long. 149°04′22.34″ W)

* * * * *

Issued in Washington, DC, on November 28, 2022.
Scott M. Rosenbloom,
Manager, Airspace Rules and Regulations.

[FR Doc. 2022-26171 Filed 12-1-22; 8:45 am]

BILLING CODE 4910-13-P